FEDERAL COMMUNICATIONS COMMISSION

47 CFR Part 52

[WT Docket No. 98-229, CC Docket No. 95-116; FCC 00-47]

Cellular Telecommunications Industry Association's Petition for Forbearance From Commercial Mobile Radio Services Number Portability Obligations; Telephone Number Portability

AGENCY: Federal Communications Commission.

ACTION: Final rule: Petition for Reconsideration.

SUMMARY: In this document, the Federal Communications Commission (Commission) denies four petitions for reconsideration or clarification of the Commission's Order forbearing from imposing service provider local number portability (LNP) requirements on commercial mobile radio service providers (CMRS providers) until November 24, 2002. The Commission finds that, in its forbearance decision, it adequately considered issues related to number conservation, competition in the wireless industry, and the Telecommunications Resellers Association's alternate LNP proposal. The Commission also finds that its forbearance analysis was consistent with the statutory standard. By this document, the Commission declines to extend or shorten the November 24, 2002 deadline for CMRS providers to support service provider LNP in the top 100 Metropolitan Statistical Areas (MSAs).

DATES: Effective April 7, 2000.

FOR FURTHER INFORMATION CONTACT: Joel Taubenblatt, Wireless Telecommunications Bureau, at (202) 418-1513.

SUPPLEMENTARY INFORMATION: This is a summary of the Commission's Order on Reconsideration in WT Docket No. 98-229 and CT Docket No. 95-116, adopted February 9, 2000, and released February 23, 2000. The complete text of this Order on Reconsideration is available for inspection and copying during normal business hours in the Commission's Reference Center, room CY-A257, 445 12th Street SW, Washington, DC. The complete text is also available through the Internet at http://www.fcc.gov/Bureaus/Wireless/Orders/2000/fcc00047.doc. In addition, the complete text may be purchased from the Commission's duplicating contractor, International Transcription Service, Inc. (ITS, Inc.) at 1231 20th Street NW, Washington, DC 10036, (202) 857-3800.

Synopsis of the Order on Reconsideration

1. On May 27, 1999, four parties filed petitions for reconsideration or clarification of the Commission's Order forbearing from imposing service provider LNP requirements on CMRS providers until November 24, 2002. See Cellular Telecommunications Industry Association's Petition for Forbearance From Commercial Mobile Radio Services Number Portability Obligations, 64 FR 22562, April 27, 1999 (“CMRS LNP Forbearance Order”). These parties are GTE Service Corporation (GTE), MCI WorldCom Inc. (MCI WorldCom), the Telecommunications Resellers Association (TRA), and the Pennsylvania Public Utility Commission (Pennsylvania Commission). The Commission denies these petitions for the reasons discussed.

2. Under the Commission's prior LNP decisions, CMRS providers were required to implement LNP in the top 100 MSAs and to support nationwide roaming by March 31, 2000. Implementation of LNP by CMRS providers would enable wireless customers to “port” their telephone numbers in the event that they switch from one wireless carrier to another, or from a wireless to a wireline carrier.

3. In the CMRS LNP Forbearance Order, the Commission granted a petition filed by the Cellular Telecommunications Industry Association (CTIA) requesting forbearance from the Commission's service provider LNP requirements for CMRS providers until the expiration of the five-year buildout period for broadband PCS carriers. The Commission found that the limited forbearance granted in the CMRS LNP Forbearance Order satisfied the three-prong test for granting forbearance set forth in section 10 of the Communications Act. 47 U.S.C. 160. Accordingly, the Commission extended the deadline for CMRS providers to support service provider LNP in the top 100 MSAs until November 24, 2002. The Commission also stated its intention to promptly initiate a rulemaking proposing certain non-LNP based numbering optimization techniques applicable to all telecommunications carriers and to develop standards for other number conservation methods, possibly including one or more pooling methods. On June 2, 1999, the Commission released a Notice of Proposed Rulemaking on numbering resource optimization. See Numbering Resource Optimization, 64 FR 32471, June 17, 1999 (“Numbering Resource Optimization Notice”).

4. In their petitions for reconsideration of the CMRS LNP Forbearance Order, MCI WorldCom, the Pennsylvania Commission, and TRA argue that the Commission should not have forborne from imposing service provider LNP requirements on CMRS providers for any length of time. GTE's petition for reconsideration of the CMRS LNP Forbearance Order, on the other hand, contends that the Commission should have forborne indefinitely from imposing service provider LNP requirements on CMRS providers. Generally, petitioners challenge the Commission's analysis of issues related to number conservation, competition in the wireless industry, and TRA's alternate LNP proposal. In addition, GTE and TRA challenge the Commission's application of the forbearance standard set forth in section 10 of the Communications Act. 47 U.S.C. 160.

5. This Order on Reconsideration finds that none of the petitions raises arguments that warrant reconsideration of the Commission's decision in the CMRS LNP Forbearance Order to forbear from imposing service provider LNP requirements on CMRS providers until November 24, 2002.

6. With respect to number conservation issues, the Order rejects assertions that: (1) the Commission's decision to extend the CMRS LNP deadline until November 24, 2002 will hamper the implementation of number optimization solutions that require LNP technology, such as thousands-block number pooling; and (2) the Commission's consideration of number conservation issues as a basis for limiting forbearance was impermissible and inaccurate speculation. In addition, in response to a request for clarification, the Order notes that whether, and the extent to which, the Commission should delegate additional authority to states to implement various numbering optimization measures is the subject of the Numbering Resource Optimization Notice. The Order also states the Commission's belief that the existing North American Numbering Council reporting mechanism, as well as the authority of the Wireless Telecommunications Bureau to address any wireless LNP implementation problems that may arise, are sufficient to address the LNP implementation concerns raised by petitioners.

7. With respect to competition issues, the Order states that the Commission carefully considered the effect of forbearance from the CMRS LNP requirements on wireless-to-wireless and wireless-to-wireline competition and found that extending the wireless LNP deadline until November 24, 2002, but not beyond that date, would promote competition in the short term and in the long term. Regarding TRA's proposed alternative approach for implementing LNP, the Commission finds that the Commission adequately considered TRA's proposal in the CMRS LNP Forbearance Order.

8. Finally, with respect to section 10 issues, the Order affirms the Commission's findings that the forbearance granted in the CMRS LNP Forbearance Order is consistent with the statutory standard of section 10. In addition, the Order states that, as an alternative to section 10 forbearance, the Commission could have extended the CMRS LNP implementation deadline to November 24, 2002 by granting a waiver under § 1.3 of the Commission's rules. See 47 CFR 1.3.

Ordering Clause

9. Accordingly, pursuant to § 1.106 of the Commission's rules, 47 CFR 1.106, the petitions for reconsideration of the CMRS LNP Forbearance Order filed by GTE Service Corporation, MCI WorldCom Inc., the Pennsylvania Public Utility Commission, and the Telecommunications Resellers Association are denied.

List of Subjects in 47 CFR Part 52

Telecommunications.

Federal Communications Commission.
Shirley S. Suggs,
Chief, Publications Group.

[FR Doc. 00-8651 Filed 4-6-00; 8:45 am]

BILLING CODE 6712-01-P